DEPARTMENT OF TRANSPORTATION

Federal Railroad Administration

49 CFR Parts 209 and 230

[FRA Docket No. RSSL-98-1, Notice No. 4]

Inspection and Maintenance Standards for Steam Locomotives

AGENCY: Federal Railroad Administration (FRA), Department of Transportation (DOT).

ACTION: Public meetings on final rule.

SUMMARY: On November 17, 1999, FRA published the final rule on inspection and maintenance of steam locomotives (64 FR 62828). The Inspection and Maintenance Standards for Steam Locomotives, title 49, Code of Federal Regulations (CFR) parts 209 and 230, which took effect on January 18, 2000, sets forth new inspection and implementation requirements. FRA will hold public meetings to explain the implementation schedule and general requirements for inspection and maintenance of steam locomotives under the rule. These meetings will also provide interested parties with the opportunity to discuss the rule and ask questions of the presenters. All parties interested in the new rule on inspection and maintenance of steam locomotives are invited to attend these meetings.

DATES: The meetings will be held on April 26, 2000, at 9 a.m.; May 17, 2000, at 9 a.m.; and June 28, 2000, at 9 am.

ADDRESSES: The meetings will be held on April 26, 2000, at the Steamtown National Historic Site, Lackwana & Cliff Street, Scranton, PA 18503; May 17, 2000 at the California State Railroad Museum, 111 I Street, Sacramento, CA 95814; and June 28, 2000 at the Clarion Hotel, 4813 Central Avenue, Hot Springs, AR 71913.

FOR FURTHER INFORMATION CONTACT: George Scerbo, Motive Power & Equipment Specialist, Office of Safety, FRA, 1120 Vermont Avenue, NW., Washington, DC 20590 (telephone 202-493-6249); or Paul F. Byrnes, Trial Attorney, Office of Chief Counsel, FRA, 1120 Vermont Avenue, NW., Washington, DC 20590 (202-493-6032).

Michael J. Logue,
Deputy Associate Administrator for Safety Compliance and Program Implementation.

[FR Doc. 00-9402 Filed 4-14-00; 8:45 am]

BILLING CODE 4910-06-P